DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2010, there were four applications approved. This notice also includes information on one application, approved in September 2010, inadvertently left off the September 2010 notice. Additionally, 18 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC APPLICATIONS APPROVED

Public Agency: Tulsa Airports Improvement Trust, Tulsa, Oklahoma.

Application Number: 10-07-C-00-TUL.

Application Type: Impose and use a PFC.

PFC Level: $4.50.

Total PFC Revenue Approved in this Decision: $7,875,712.

Earliest Charge Effective Date: April 1, 2019.

Estimated Charge Expiration Date: June 1, 2020.

Class of Air Carriers Not Required to Collect PFC's: Air taxi/commercial operators filing FAA Form 1800-31.

Determination: Approved. Based on information contained in the public agency's application, the FAA has determined that the approved class accounts for less than I percent of the total annual enplanements at Tulsa International Airport.

Brief Description of Projects Approved for Collection and Use:

Passenger loading bridges.

Sliding and revolving doors in terminal.

PFC services consulting fees.

Decision Date: September 30, 2010.

FOR FURTHER INFORMATION CONTACT: Lana Logan, Arkansas/Oklahoma Airport Development Office, (817) 222-5636.

Public Agency: Cities of Midland, Saginaw, and County of Bay, Freeland, Michigan.

Application Number: 10-07-C-00-MBS.

Application Type: Impose and use a PFC.

PFC Level: $4.50.

Total PFC Revenue Approved in this Decision: $10,449,784.

Earliest Charge Effective Date: February 1, 2011.

Estimated Charge Expiration Date: February 1, 2029.

Class of Air Carriers Not Required to Collect PFC's: Air taxi/commercial operators filing FAA Form 1800-31.

Determination: Approved. Based on information contained in the public agency's application, the FAA has determined that the approved class accounts for less than 1 percent of the total annual enplanements at MBS International Airport.

Brief Description of Projects Approved for Collection and Use:

Phase IV terminal construction, taxiway construction.

PFC application fees.

Reimbursement of administrative expenses of PFC program.

Airfield pavement marking.

All phases of terminal construction.

Brief Description of Projects Approved for Collection:

Partial parallel taxiway and apron connector.

Completion of perimeter road.

Snow removal equipment procurement, high speed airport broom.

Decision Date: October 1, 2010.

FOR FURTHER INFORMATION CONTACT: Irene Porter, Detroit Airports District Office, (734) 229-2915.

Public Agency: City of Bismarck, North Dakota.

Application Number: 10-05-C-00-BIS.

Application Type: Impose and use a PFC.

PFC Level: $4.50.

Total PFC Revenue Approved in this Decision: $7,100,309.

Earliest Charge Effective Date: September 1, 2014.

Estimated Charge Expiration Date: September 1, 2025.

Class of Air Carriers Not Required to Collect PFC's: Air taxi.

Determination: Approved. Based on information contained in the public agency's application, the FAA has determined that the approved class accounts for less than 1 percent of the total annual enplanements at Bismarck Airport.

Brief Description of Projects Approved for Collection and Use:

Runway 13/31 surface treatment.

Taxiway C improvements.

Install lighted wind sock for runway 3/21.

Replace taxiway C edge lighting and signs.

Install two boarding bridge baggage lift devices.

North side service road.

Environmental assessment.

Surface treatment for runway 3/21.

Surface treatment for taxiway C.

Realign taxiway C.

Runway protection zone land purchase (phase 1).

Construct taxiway (phase 1).

PFC application preparation.

Purchase broom #2.

Purchase and install additional passenger loading bridge.

Rehabilitate a portion of taxiway C.

Purchase broom #3.

Modify aircraft rescue and firefighting building doors and rehabilitate aircraft rescue and firefighting building.

Purchase deicer and sander.

Purchase aircraft rescue and firefighting truck with extendable penetrating nozzle.

Rehabilitate aircraft rescue and firefighting parking ramp.

Brief Description of Withdrawn Projects:

Rehabilitate or construct snow removal equipment building.

Date of withdrawal: September 21, 2010.

Rehabilitate snow removal equipment parking ramp.

Rehabilitate taxiways B, C, and D.

Rehabilitate or expand apron, phase 1.

Rehabilitate and expand apron (phase 2).

Date of withdrawal: October 1, 2010.

Decision Date: October 1, 2010.

FOR FURTHER INFORMATION CONTACT: Steven Obenauer, Bismarck Airports District Office, (701) 323-7380.

Public Agency: City of Bangor, Maine.

Application Number: 10-02-C-00-BGR.

Application Type: Impose and use a PFC. PFC Level: $4.50.

Total PFC Revenue Approved in this Decision: $1.998,100.

Earliest Charge Effective Date: December 1, 2010.

Estimated Charge Expiration Date: May 1, 2012.

Class of Air Carriers Not Required to Collect PFC's: On-demand air taxi commercial operators.

Determination: Approved. Based on information contained in the public agency's application, the FAA has determined that the approved class accounts for less than 1 percent of the total annual enplanements at Bangor International Airport.

Brief Description of Projects Approved for Collection and Use:

Purchase snow removal equipment.

PFC application assistance.

Decision Date: October 7, 2010.

FOR FURTHER INFORMATION CONTACT: Priscilla Scott, New England Region Airports Division, (781) 238-7614.

Public Agency: City of Chico, California.

Application Number: 10-05-C-00-CIC.

Application Type: Impose and use a PFC.

PFC Level: $4.50.

Total PFC Revenue Approved in this Decision: $590,000.

Charge Effective Date: December 1, 2010.

Estimated Charge Expiration Date: December 1, 2015.

Class of Air Carriers Not Required to Collect PFC's: None.

Brief Description of Projects Approved for Collection and Use:

Interactive aircraft rescue and firefighting training system.

PFC administrative costs.

Brief Description of Project Approved for Collection:

Reconfiguration of baggage processing and baggage claim areas—design and construction.

Brief Description of Project Partially Approved for Collection:

Renovation of terminal building—design and construction.

Determination: Partially approved for collection. The costs associated with revenue producing concessions including the temporary rental car concession are disapproved. Decision Date: October 25, 2010.

FOR FURTHER INFORMATION CONTACT: Gretchen Kelly, San Francisco Airports District Office, (650) 876-2778, extension 623.

Amendments to PFC Approvals:

Amendment No., city, state | Amendment approved date | Original approved net PFC revenue | Amended approved net PFC revenue | Original estimated charge exp. date | Amended estimated charge exp. date
04-05-C-O1-GCC Gillette, WY. | 09/27/10 | $170,000 | $34,644 | 07/01/08 | 07/01/10
93-01-C-03-AVP Avoca, PA. | 09/28/10 | 4,588,122 | 4,453,122 | 05/01/01 | 05/01/01
97-02-U-02-AVP Avoca, PA. | 09/28/10 | NA | NA | 05/01/01 | 05/01/01
06-04-C-01-UNV State College, PA. | 09/29/10 | 1,420,524 | 1,261,493 | 12/01/14 | 12/01/14
*08-06-C-01-TUL Tulsa, OK. | 09/30/10 | 65,043,406 | 57,177,803 | 04/01/27 | 04/01/19
03-08-C-02-SLC Salt Lake City, UT. | 09/30/10 | 9,035,419 | 10,288,588 | 07/01/07 | 08/01/07
03-09-C-01-SLC Salt Lake City, UT. | 09/30/10 | 25,265,000 | 24,686,131 | 05/01/08 | 05/01/08
06-10-C-01-SLC Salt Lake City, UT. | 09/30/10 | 75,362,174 | 72,172,545 | 02/01/10 | 07/01/09
08-12-C-02-COS Colorado Springs, CO. | 10/04/10 | 2,991,994 | 2,880,883 | 12/01/11 | 02/01/11
94-01-l-04-LWS Lewiston, ID. | 10/05/10 | 2,509,907 | 2,478,343 | 10/01/06 | 10/01/06
95-02-U-03-LWS Lewiston, ID. | 10/05/10 | NA | NA | 10/01/06 | 10/01/06
*07-03-C-0l-TRI Blountville, TN. | 10/14/09 | 1,264,140 | 668,500 | 10/01/14 | 07/01/13
*97-01-C-06-SDF Louisville, KY. | 10/20/10 | 90,600,000 | 90,600,000 | 11/01/14 | 12/01/13
01-02-C-05-SDF Louisville, KY. | 10/20/10 | 10,012,140 | 10,012,140 | 03/01/16 | 04/01/14
03-03-C-03-SDF Louisville, KY. | 10/20/10 | 5,666,800 | 5,666,800 | 04/01/18 | 02/01/15
06-04-C-04-SDF Louisville, KY. | 10/20/10 | 1,267,315 | 1,267,315 | 06/01/18 | 05/01/15
02-05-C-01-DCA Arlington, VA. | 10/20/10 | 33,895,949 | 30,727,768 | 02/01/08 | 02/02/08
07-05-C-01-TOL Toledo, OH. | 10/27/10 | 1,492,000 | 1,680,498 | 12/01/11 | 12/01/11

Notes: The amendments denoted by an asterisk (*) include a change to the PFC level charged from $3.00 per enplaned passenger to $4.50 per enplaned passenger. For Tulsa, OK and Louisville, KY, this change is effective on December 1, 2010.

Issued in Washington, DC, on November 1, 2010.
Joe Hebert,
Manager, Financial Analysis and Passenger Facility Charge Branch.

[FR Doc. 2010-28094 Filed 11-9-10; 8:45 am]

BILLING CODE 4910-13-M